DEPARTMENT OF TRANSPORTATION

Federal Highway Administration

Buy America Waiver Notification

AGENCY: Federal Highway Administration (FHWA), DOT.

ACTION: Notice.

SUMMARY: This notice provides information regarding FHWA's finding that a Buy America waiver is appropriate for the procurement of a John Deere 640R Standard Farm Loader for recreational trail maintenance by the St. Marys Area Snowmobile Association (through the Pennsylvania Department of Conservation and Natural Resources) because the equipment is not available to be produced using 100 percent domestic steel or iron.

DATES: The effective date of the waiver is October 11, 2017.

FOR FURTHER INFORMATION CONTACT: For questions about this notice, please contact Mr. Gerald Yakowenko, FHWA Office of Program Administration, (202) 366-1562, or via email at gerald.yakowenko@dot.gov. For legal questions, please contact Mr. William Winne, FHWA Office of the Chief Counsel, 202-366-1397, or via email at william.winne@dot.gov. Office hours for the FHWA are from 8:00 a.m. to 4:30 p.m., E.T., Monday through Friday, except Federal holidays.

SUPPLEMENTARY INFORMATION:

Electronic Access

An electronic copy of this document may be downloaded from the Federal Register's home page at: http://www.archives.gov and the Government Publishing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding FHWA's finding that a Buy America waiver is appropriate for a John Deere 640R Standard Farm Loader for recreational trail maintenance by the St. Marys Area Snowmobile Association in Pennsylvania because this equipment is not available to be produced by domestic manufacturers using 100 percent domestic steel or iron.

Consistent with the Consolidated Appropriations Act of 2017 (Pub. L. 115-31), FHWA published a notice on its Web site, https://www.fhwa.dot.gov/construction/contracts/waivers.cfm?id=148 on March 22 seeking comments on whether a waiver of Buy America requirements is appropriate. The FHWA received no comments in response to the publication. Both the St. Marys Area Snowmobile Association and Pennsylvania Department of Conservation and Natural Resources were unable to verify that equipment meeting its specifications could be produced by domestic manufacturers. The applicant requires and all-terrain, all-season, medium frame tractor to pull snow grooming equipment and clear the trail of vegetation. The applicant could not locate a domestically manufactured model of all season, medium frame tractors that can accommodate its existing snow grooming equipment. The FHWA also contacted a potential domestic manufacturer and a domestic vendor to verify whether the subject materials or a suitable substitute were reasonably available. Based on all the information available to the agency, FHWA concludes that there are no domestic manufacturers of a John Deere 640R Standard Farm Loader for recreational trail maintenance by the St. Marys Area Snowmobile Association in Pennsylvania for which all its iron and steel is domestically manufactured.

The St. Marys Area Snowmobile Association, the Pennsylvania Department of Conservation and Natural Resources, Pennsylvania DOT, contractors, and subcontractors involved in the procurement of John Deere 640R are reminded of the need to comply with the Cargo Preference Act in 46 CFR part 38, if applicable.

In accordance with the provisions of section 117 of the SAFETEA-LU Technical Corrections Act of 2008 (Pub. L. 110-244, 122 Stat. 1572), FHWA is providing this notice as its finding that a waiver of Buy America requirements is appropriate. The FHWA invites public comment on this finding for an additional 15 days following the effective date of the finding. Comments may be submitted to FHWA's Web site via the link provided to the waiver page noted above.

Authority: (23 U.S.C. 313; Pub. L. 110-161, 23 CFR 635.410)

Issued on: October 2, 2017.
Brandye L. Hendrickson,
Acting Administrator, Federal Highway Administration.

[FR Doc. 2017-21862 Filed 10-5-17; 11:15 am]

BILLING CODE 4910-22-P